DEPARTMENT OF THE INTERIOR

National Park Service

Notice of Inventory Completion: Thomas Burke Memorial Washington State Museum, University of Washington, Seattle, WA

AGENCY: National Park Service, Interior.

ACTION: Notice.

Notice is here given in accordance with the Native American Graves Protection and Repatriation Act (NAGPRA), 25 U.S.C. 3003, of the completion of an inventory of human remains in the possession of the Thomas Burke Memorial Washington State Museum (Burke Museum), University of Washington, Seattle, WA. The human remains were removed from the vicinity of Salem, Marion County, OR.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by the Burke Museum professional staff in consultation with representatives of the Confederated Tribes of the Grand Ronde Community of Oregon and the Confederated Tribes of the Warm Springs Reservation of Oregon.

At an unknown date prior to 1930, human remains representing a minimum of one individual were removed from the vicinity of Salem, in Marion County, OR. These human remains were acquired by the Burke Museum through an exchange in 1930 (Burke Museum Accn. #2391). No known individual was identified. No associated funerary objects are present.

The human remains are determined to be consistent with Native American morphology, as evidenced through cranial deformation and presence of wormian bones. Information available in the original accession files helped affirm the determination.

Historical documentation indicates that the Willamette Valley area surrounding Salem, OR, was occupied by the Kalapuyan speaking people (Ruby and Brown 1986, Swanton 1952, and Zenk 1990). The Northern subdivision, the Yamhill, and the Central subdivision, the Sanitiam, were the primary aboriginal occupants in the vicinity of Salem. By the terms of the Kalapuya Treaty of 1855, the Kalapuyan people were moved to the Grand Ronde Reservation (Ruby and Brown 1986). Descendents of the Kalapuyan speaking people are now represented by the Confederated Tribes of the Grand Ronde Community of Oregon.

The Confederated Tribes of the Grand Ronde Community of Oregon include at least 26 tribes and bands whose ancestral homelands span across western Oregon, southwestern Washington, and northern California. The Grand Ronde tribes and bands include the Rogue River, Umpqua, Chasta, Kalapuya, Molala, Clackamas, Salmon River, Tillamook, and Nestucca, as well as many other groups. At the time of contact, the various tribal groups spoke approximately 30 dialects of the Athabascan, Chinookan, Kalapuyan, Takelman, Molalan, Sahaptin, Salishan, and Shastan language families. In 1855, the U.S. Government forcibly relocated the Grand Ronde peoples to the Grand Ronde Reservation at the headwaters of the South Yamhill River in Yamhill and Polk Counties, OR.

Officials of the Burke Museum have determined that, pursuant to 25 U.S.C. 3001(9), the human remains described above represent the physical remains of one individual of Native American ancestry. Officials of the Burke Museum also have determined that, pursuant to 25 U.S.C. 3001(2), there is a relationship of shared group identity that can be reasonably traced between the Native American human remains and the Confederated Tribes of the Grand Ronde Community of Oregon.

Representatives of any other Indian tribe that believes itself to be culturally affiliated with the human remains should contact Dr. Peter Lape, Burke Museum, University of Washington, Box 353010, Seattle, WA 98195, telephone (206) 685-3849, before September 23, 2010. Repatriation of the human remains to the Confederated Tribes of the Grand Ronde Community of Oregon may proceed after that date if no additional claimants come forward.

The Burke Museum is responsible for notifying the Confederated Tribes of the Grand Ronde Community of Oregon and the Confederated Tribes of the Warm Springs Reservation of Oregon that this notice has been published.

Dated: August 18, 2010.
David Tarler,
Acting Manager, National NAGPRA Program.

[FR Doc. 2010-20940 Filed 8-23-10; 8:45 am]

BILLING CODE 4312-50-S